DEPARTMENT OF TRANSPORTATION

Federal Aviation Administration

Notice of Intent To Release Certain Properties From All Terms, Conditions, Reservations and Restrictions of a Quitclaim Deed Agreement Between the Miami-Dade County Board of County Commissioners and the Federal Aviation Administration for the Miami International Airport, Miami, FL

AGENCY: Federal Aviation Administration (FAA), DOT.

ACTION: Request for public comment.

SUMMARY: The FAA hereby provides notice of intent to release a portion of airport property (Parcel ‘2’—4.61 acres) at the Miami International Airport, Miami, FL. The release of property will allow the Miami-Dade County Board of County Commissioners to exchange the property for another parcel (Parcel ‘1’—also 4.61 acres and of equal value to the parcel intended for release). Parcel ‘2’ begin a part of LeJeune Garden Estates is located in the Section 32, Township 53 South, Range 43 East, being a part of the amended plat of clear zone 27-L M.I.A. as recorded in plat book 104 page 12, of the Miami-Dade County Public Records. Parcel ‘1’ lies in Section 32, Township 53 South, Range 41 East and being a part of the following plats: Cummings Subdivision plat book 81 page 18, Flight Deck Motel plat book 71 page 26, and LeJeune Garden Estates Section 3 plat book 44, page 11. The parcel is currently designated as non-aeronautical use. The property will be exchanged for Parcel ‘1’ for the purpose of relocating and constructing Perimeter Road improvements, extending and constructing NW. 42nd Court and the necessary bridge to access the Terminal and to construct a new replacement bus maintenance facility. Parcel ‘2’ will be used by the Florida Department of Transportation/Miami-Dade Expressway Authority for a dry storm water retention area required for other roadway improvement projects in the area. The parcels are equal in size and highest/best use, therefore the exchange is considered to be an even exchange with no cash consideration to be paid by either party. This type of exchange complies with Chapter 125.37 of the Florida Statutes and will be published in newspapers of general circulation.

Documents reflecting the Sponsor's request are available, by appointment only, for inspection at the Miami-Dade Aviation Department Office and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: December 13, 2006.

ADDRESSES: Documents are available for review at the Miami-Dade Aviation Department, 4200 NW. 36th Street, Building 4A, Suite 400, Miami, Florida 33122, and the FAA Airports District Office, 5950 Hazeltine National Drive, Suite 400, Orlando, FL 32822. Written comments on the Sponsor's request must be delivered or mailed to: Krystal G. Hudson, Program Manager, Orlando Airports District Office, 5950 Hazeltine National Drive, Suite 400, Orlando, FL 32822-5024.

FOR FURTHER INFORMATION CONTACT: Krystal G. Hudson, Program Manager, Orlando Airports District Office, 5950 Hazeltine National Drive, Suite 400, Orlando, FL 32822-5024.

W. Dean Stringer,
Manager, Orlando Airports District Office, Southern Region.

[FR Doc. 06-9173 Filed 11-9-06; 8:45 am]

BILLING CODE 4910-13-M